DEPARTMENT OF THE INTERIOR

Fish and Wildlife Service

[FWS-R6-R-2012-N231; FF06R06000-FXRS1265066CCP0-123]

Establishment of Sangre de Cristo Conservation Area, Colorado and New Mexico

AGENCY: Fish and Wildlife Service, Interior.

ACTION: Notice.

SUMMARY: This notice advises the public that the U.S. Fish and Wildlife Service (Service) has established the Sangre de Cristo Conservation Area as a unit of the National Wildlife Refuge System. The Service established the Sangre de Cristo Conservation Area on September 14, 2012, with the donation by Mr. Louis Bacon of an approximately 77,000-acre conservation easement on the Trinchera Ranch in Costilla County, Colorado.

ADDRESSES: A map depicting the approved boundary and other information regarding the Conservation Area is available on the Internet at http://www.fws.gov/mountain-prairie/planning/.

FOR FURTHER INFORMATION CONTACT: Dr. Mike Dixon, Planning Team Leader, Division of Refuge Planning, USFWS, P.O. Box 25486, DFC, Denver, CO 80225. http://www.fws.gov/mountain-prairie/planning/.

SUPPLEMENTARY INFORMATION: The Service has established the Sangre de Cristo Conservation Area in south-central Colorado and far northern New Mexico, including portions of Costilla County, Colorado, and Taos County, New Mexico. The Service will conserve wildlife resources in the conservation area, primarily through the purchase of perpetual easements from willing sellers. These easements will connect and expand existing lands under conservation protection to the north and south of the conservation area.

The area's history of largely low-intensity agriculture is one of the key components to ensuring habitat integrity and wildlife resource protection. Based on anticipated levels of landowner participation, objectives for the conservation area are to protect 250,000 acres of habitat for Federal trust species. The conservation area is a landscape-scale effort to conserve populations of priority species in an approximately 1-million-acre region in the central Sangre de Cristo Mountains, the largest completely privately owned region of the southern Rocky Mountains. The prioritization for land protection will incorporate the elements of strategic habitat conservation (SHC) to ensure effective conservation. SHC entails strategic biological planning and conservation design, integrated conservation delivery, monitoring, and research at ecoregional scales.

This conservation area allows the Service to purchase conservation easements using the acquisition authority of the Fish and Wildlife Act of 1956 (16 U.S.C. 742a-j) and the Migratory Bird Conservation Act of 1929 (16 U.S.C. 715-715d, 715e, 715f-r). The Federal money used to acquire conservation easements is from the Land and Water Conservation Fund Act of 1965, as amended (16 U.S.C. 460l-4 through 11; funds received under this act are derived primarily from oil and gas leases on the Outer Continental Shelf, motorboat fuel taxes, and the sale of surplus Federal property), and the sale of Federal Duck Stamps [Migratory Bird Hunting and Conservation Stamp Act (16 U.S.C. 718-718j, 48 Stat. 452)]. Additional funding to acquire lands, water, or interests for fish and wildlife conservation purposes could be identified by Congress or donated by nonprofit organizations. The purchase of easements from willing sellers will be subject to available money.

The Service has involved the public, agencies, partners, and legislators throughout the planning process for the easement program. At the beginning of the planning process, the Service initiated public involvement for the proposal to protect habitats through acquisition of conservation easements for management as part of the Refuge System. The Service spent time discussing the proposed project with landowners; conservation organizations; Federal, State, and county governments; tribes; and other interested groups and individuals. Scoping meetings were held on March 29, 30, and 31, 2011, in Alamosa, Monte Vista, and Moffatt, respectively. These meetings were announced in local and regional media.

In compliance with the National Environmental Policy Act of 1969 (42 U.S.C. 4321), the Service prepared an environmental assessment (EA) that evaluated two alternatives and their potential impacts on the project area. The Service released the draft environmental assessment (EA) and LPP on May 9, 2012, for a 30-day public review period. The draft documents were made available to Federal elected officials and agencies, State elected officials and agencies, 17 Native American tribes with aboriginal or tribal interests, local media, and other members of the public that were identified during the scoping process.

In addition, the Service held three public meetings on May 14, 15, and 16, 2012, at Alamosa, San Luis, and Moffatt, CO, respectively. These meetings were announced in advance in local and regional media. Approximately 50 landowners, citizens, and elected representatives attended the meetings. The Service received 14 letters from agencies, organizations, and members of the public. After all comments were received, they were reviewed, added to the administrative record, and, if substantial, incorporated into the environmental assessment (EA).

Based on the documentation contained in the environmental assessment (EA), a Finding of No Significant Impact was signed on August 1, 2012, for the establishment of the Sangre de Cristo Conservation Area.

Dated: November 5, 2012.
Noreen E. Walsh,
Acting, Regional Director, Mountain-Prairie Region, U.S. Fish and Wildlife Service.

[FR Doc. 2012-27611 Filed 11-13-12; 8:45 am]

BILLING CODE 4310-55-P